DEPARTMENT OF TRANSPORTATION

Federal Highway Administration

Buy America Waiver Notification

AGENCY: Federal Highway Administration (FHWA), DOT.

ACTION: Notice.

SUMMARY: This notice provides information regarding the FHWA's finding that Buy America waivers are not appropriate for the use of foreign hollow structural section (hollow structural section round A500, Grade C, 10.75 x 0.625 steel pipe) and one-inch diameter stainless steel anchor bolts (1 inch diameter stainless steel, F 593, Group 6, anchor bolts) for construction of projects by Contra Costa County Public Works, CA, and Vermont Agency of Transportation, respectively. Domestic sources of these materials were identified through FHWA's public notice process.

DATES: Since the Buy America waiver is not granted, there is no effective date for the waiver.

FOR FURTHER INFORMATION CONTACT: For questions about this notice, please contact Mr. Gerald Yakowenko, FHWA Office of Program Administration, (202) 366-1562, or via e-mail at gerald.yakowenko@dot.gov. For legal questions, please contact Mr. Michael Harkins, FHWA Office of the Chief Counsel, (202) 366-4928, or via e-mail at michael.harkins@dot.gov. Office hours for the FHWA are from 7:45 a.m. to 4:15 p.m., e.t., Monday through Friday, except Federal holidays.

SUPPLEMENTARY INFORMATION:

Electronic Access

An electronic copy of this document may be downloaded from the Federal Register's home page at: http://www.archives.gov and the Government Printing Office's database at: http://www.access.gpo.gov/nara.

Background

The FHWA's Buy America policy in 23 CFR 635.410 requires a domestic manufacturing process for any steel or iron products (including protective coatings) that are permanently incorporated in a Federal-aid construction project. The regulation also provides for a waiver of the Buy America requirements when the application would be inconsistent with the public interest or when satisfactory quality domestic steel and iron products are not sufficiently available. This notice provides information regarding the FHWA's finding that Buy America waivers are not appropriate for the use of: (1) The hollow structural section for construction of Iron Horse Trail Pedestrian Overcrossing Project by Contra Costa County Public Works in California, and (2) one-inch diameter stainless steel anchor bolts for the construction of East Montpelier Bridge project #BRF 028-3(36) by the Vermont Agency of Transportation.

In accordance with Division K, section 130 of the “Consolidated Appropriations Act, 2008” (Pub. L. 110-161), the FHWA published the notices of intent to issue the waivers on its Web site for: (1) The hollow structural section (http://www.fhwa.dot.gov/construction/contracts/waivers.cfm?id=34) on June 10, and (2) the one-inch diameter stainless steel anchor bolts (http://www.fhwa.dot.gov/construction/contracts/waivers.cfm?id=35) on June 15.

The FHWA received a comment from Independence Tube Corporation which claimed to have the capacity to manufacture the hollow structural section domestically. Further inquiries confirmed that the hollow structural section can be manufactured domestically. The FHWA received three comments indicating that the one-inch diameter stainless steel anchor bolts are available domestically. The Contra Costa County Public Works and Vermont Agency of Transportation have verified that the hollow structural section and the one-inch diameter stainless steel anchor bolts are available domestically; therefore, FHWA concludes that the materials are available domestically and that Buy America waivers are not appropriate for the hollow structural section and the one-inch diameter stainless steel anchor bolts.

In accordance with the provisions of section 117 of the SAFETEA-LU Technical Corrections Act of 2008 (Pub. L. 110-244, 122 Stat.1572), the FHWA is providing this notice as its finding that a waiver of Buy America requirements is not appropriate for these projects. The FHWA invites public comment on this finding for an additional 15 days following the effective date of the finding. Comments may be submitted to the FHWA's Web site via the links provided to the California and Vermont waiver pages noted above.

Authority: 23 U.S.C. 313; Public Law 110-161, 23 CFR 635.410.

Issued on: July 29, 2009.
King W. Gee,
Associate Administrator for Infrastructure.

[FR Doc. E9-18607 Filed 8-3-09; 8:45 am]

BILLING CODE 4910-22-P